DEPARTMENT OF LABOR

Employment and Training Administration

[TA-W-81,603]

Accellent

Including On-Site Leased Workers From Aerotek, Corporate Management Group (CMG), Marathon Staffing, And Excel Personnel, Inc., Englewood, Colorado; Amended Certification Regarding Eligibility To Apply for Worker Adjustment Assistance

In accordance with Section 223 of the Trade Act of 1974, as amended (“Act”), 19 U.S.C. 2273, the Department of Labor issued a Certification of Eligibility to Apply for Worker Adjustment Assistance on June 18, 2012, applicable to workers of Accellent, Englewood, Colorado, including on-site leased workers from Aerotek, Corporate Management Group (CMG), and Marathon Staffing. The Department's notice of determination was published in the Federal Register on July 10, 2012 (77 FR 40641).

At the request of a company official, the Department reviewed the certification for workers of the subject firm. The workers were engaged in production of medical device components.

The company reports that workers leased from Excel Personnel, Inc. were employed on-site at the Englewood, Colorado location of Accellent. The Department has determined that these workers were sufficiently under the control of the subject firm to be considered leased workers.

Based on these findings, the Department is amending this certification to include workers leased from Excel Personnel, Inc. working on-site at the Englewood, Colorado location of Accellent.

The amended notice applicable to TA-W-81,603 is hereby issued as follows:

All workers of Accellent, including on-site leased workers from Aerotek, Corporate Management Group (CMG), Marathon Staffing, and Excel Personnel, Inc., Englewood, Colorado, who became totally or partially separated from employment on or after May 10, 2010, through June 18, 2014, and all workers in the group threatened with total or partial separation from employment on the date of certification through two years from the date of certification, are eligible to apply for adjustment assistance under Chapter 2 of Title II of the Trade Act of 1974, as amended.

Signed in Washington, DC this 21st day of August, 2012.
Del Min Amy Chen,
Certifying Officer, Office of Trade Adjustment Assistance.

[FR Doc. 2012-21618 Filed 8-31-12; 8:45 am]

BILLING CODE 4510-FN-P